DEPARTMENT OF ENERGY

Federal Energy Regulatory Commission

[Project No. 14851-003]

White Pine Waterpower, LLC; Notice of Anticipated Schedule for White Pine Pumped Storage Project

On February 27, 2023, White Pine Waterpower, LLC filed an application for authorization to construct and operate the White Pine Pumped Storage Project. The project would be located approximately 8 miles northeast of the City of Ely, in White Pine County, Nevada. The project would occupy 1,095.76 acres of land managed by the US Bureau of Land Management.

The application will be processed according to the following anticipated schedule.

Notice of Ready for Environmental Analysis: December 2023.

Draft National Environmental Policy Act Document: September 2024.

Final National Environmental Policy Act Document: March 20, 2025.

In addition, in accordance with title 41 of the Fixing America's Surface Transportation Act, enacted on December 4, 2015, agencies are to publish completion dates for all Federal environmental reviews and authorizations. This notice identifies the Commission's anticipated schedule for issuance of the final order for the project, which is based on the anticipated date of issuance of the final National Environmental Policy Act document. Accordingly, we currently anticipate issuing a final order for the project no later than:

Issuance of Final Order: June 19, 2025.

If a schedule change becomes necessary, an additional notice will be provided so that interested parties and government agencies are kept informed of the project's progress.

Dated: May 11, 2023.
Debbie-Anne A. Reese,
Deputy Secretary.

[FR Doc. 2023-10512 Filed 5-16-23; 8:45 am]

BILLING CODE 6717-01-P